INTERNATIONAL TRADE COMMISSION

[Investigation No. 332-578]

Generalized System of Preferences: Possible Modifications, 2020 Review

AGENCY: United States International Trade Commission.

ACTION: Notice of institution of investigation and scheduling of public hearing.

SUMMARY: Following receipt of a request on May 4, 2020, from the United States Trade Representative (USTR), the U.S. International Trade Commission (Commission) instituted Investigation No. 332-578, Generalized System of Preferences: Possible Modifications, 2020 Review, for the purpose of providing advice and information relating to the possible addition of articles and removal of articles.

DATES:

June 3, 2020: Deadline for filing requests to appear at the public hearing.

June 3, 2020: Deadline for filing pre-hearing briefs and statements.

June 19, 2020: Public hearing.

June 29, 2020: Deadline for filing post-hearing briefs and statements.

June 29, 2020: Deadline for filing all other written submissions.

August 31, 2020: Transmittal of Commission report to the USTR.

Because COVID-19 mitigation measures are in effect, the Commission will hold the public hearing virtually. For further information on the hearing, see the section below on “public hearing” and also the Commission's ongoing investigations website (https://usitc.gov/research_and_analysis/what_we_are_working_on.htm), before June 22, 2020 for details about the hearing format.

ADDRESSES: All Commission offices are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov.

FOR FURTHER INFORMATION CONTACT: Information specific to this investigation may be obtained from Sharon Ford, Project Leader, Office of Industries (202-205-3084 or sharon.ford@usitc.gov), or Greg LaRocca, Deputy Project Leader, Office of Industries (202-205-3405 or gregory.larocca@usitc.gov) or Marin Weaver, Technical Advisor, Office of Industries (202-205-3461 or marin.weaver@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (http://www.usitc.gov). Persons with mobility impairments who will need special assistance in gaining access to the Commission should contact the Office of the Secretary at 202-205-2000.

Background: In his letter, the USTR requested the advice and information described below.

(1) Advice as to the probable economic effect on total U.S. imports, on U.S. industries producing like or directly competitive articles, and on U.S. consumers of the elimination of U.S. import duties on the articles in Table A for all beneficiary developing countries under the GSP program. In accordance with sections 503(a)(1)(A), 503(e), and 131(a) of the Trade Act of 1974, as amended (“the 1974 Act”) and pursuant to the authority of the President delegated to the USTR by sections 4(c) and 8(c) and (d) of Executive Order 11846 of March 31, 1975, as amended, and pursuant to section 332(g) of the Tariff Act of 1930, the USTR notified the Commission that the articles identified in Table A of the Annex to the USTR request letter are being considered for designation as eligible articles for purposes of the GSP program. The USTR requested that the Commission provide its advice as to the probable economic effect on total U.S. imports, U.S. industries producing like or directly competitive articles, and on U.S. consumers of the elimination of U.S. import duties on the articles identified in Table A of the Annex to the USTR request letter for all beneficiary developing countries under the GSP program (see Table A below).

Table A—2020 GSP Annual Review—Petitions Submitted To Add Products to the List of Eligible Articles for the Generalized System of Preferences (GSP)
HTS provision | Brief description
0603.11.00 | Sweetheart, Spray and other Roses, fresh cut.
0603.11.0010 | Sweetheart roses, fresh, suitable for bouquets or for ornamental purposes.
0603.11.0030 | Spray roses, fresh, suitable for bouquets or for ornamental purposes.
0603.11.0060 | Roses, fresh, suitable for bouquets for ornamental purposes, nesoi.

(2) Advice as to the probable economic effect of the removal from eligibility for duty-free treatment under the GSP program for these articles from all countries on total U.S. imports, on U.S. industries producing like or directly competitive articles, and on U.S. consumers. The USTR notified the Commission that six articles from all beneficiary developing countries are being considered for removal from eligibility for duty-free treatment under the GSP program. Under authority delegated by the President, pursuant to section 332(g) of the Tariff Act of 1930, with respect to the articles listed in Table B of the Annex to the USTR request letter, the USTR requested that the Commission provide its advice as to the probable economic effect of the removal from eligibility for duty-free treatment under the GSP program for these articles from all beneficiary developing countries on total U.S. imports, on U.S. industries producing like or directly competitive articles, and on U.S. consumers (see Table B below).

Table B—2020 GSP Annual Review—Petitions Submitted To Remove Duty-Free Status for a Product on the List of Eligible Articles for the GSP Program
HTS provision | Brief description
1006.10.00 | Rice in the husk (paddy or rough).
1006.20.20 | Basmati rice, husked.
1006.20.40 | Husked (brown) rice, other than Basmati.
1006.30.10 | Rice semi-milled or wholly milled, whether or not polished or glazed, parboiled.
1006.30.90 | Rice semi-milled or wholly milled, whether or not polished or glazed, other than parboiled.
1006.40.00 | Broken rice.

Time for reporting, HTS detail, portions of report to be classified. As requested by the USTR, the Commission will provide the requested advice and information by August 31, 2020. The USTR asked that the Commission issue, as soon as possible thereafter, a public version of the report containing only the unclassified information, with any confidential business information deleted. As requested, the Commission will provide its probable economic effect advice and statistics (profile of the U.S. industry and market and U.S. import and export data) and any other relevant information or advice separately and individually for each U.S. Harmonized Tariff Schedule provision for all products subject to the request. The USTR indicated that those sections of the Commission's report and working papers that contain the Commission's advice and assessment of probable economic effects on domestic industries, on U.S. imports, and on U.S. consumers, will be classified as “confidential.” The USTR also stated that his office considers the Commission's report to be an inter-agency memorandum that will contain pre-decisional advice and be subject to the deliberative process privilege.

Public Hearing: A public hearing in connection with this investigation will be held beginning at 9:30 a.m. on June 19, 2020, virtually. Information about the virtual hearing and how to participate will be posted on the Commission's website at (https://usitc.gov/research_and_analysis/what_we_are_working_on.htm). Once on that web page, scroll down to the entry for investigation No. 332-578, Generalized System of Preferences: Possible Modifications, 2020 Review, and click on the link to “hearing instructions”. Requests to appear at the public hearing should be filed with the Secretary no later than 5:15 p.m., June 3, 2020. All pre-hearing briefs and statements should be filed no later than 5:15 p.m., June 3, 2020; and all post-hearing briefs and statements should be filed no later than 5:15 p.m., June 29, 2020. All requests to appear, and pre- and post-hearing briefs and statements should be filed in accordance with the requirements of the “written submissions” section below.

Written Submissions: In lieu of or in addition to participating in the hearing, interested parties are invited to file written submissions concerning this investigation. All written submissions should be addressed to the Secretary, and should be received not later than 5:15 p.m., June 29, 2020. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Confidential Business Information: Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission may include some or all of the confidential business information submitted in the course of this investigation in the report it sends to the USTR. Additionally, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: Persons wishing to have a summary of their position included in the report should include a summary with their written submission and should mark the summary as having been provided for that purpose. The summary should be clearly marked as “summary for inclusion in the report” at the top of the page. The summary may not exceed 500 words, should be in MS Word format or a format that can be easily converted to MS Word, and should not include any confidential business information. The summary will be published as provided if it meets these requirements and is germane to the subject matter of the investigation. The Commission will list the name of the organization furnishing the summary and will include a link to the Commission's Electronic Document Information System (EDIS) where the full written submission can be found.

By order of the Commission.
Issued: May 21, 2020.
Lisa Barton,
Secretary to the Commission.

[FR Doc. 2020-11359 Filed 5-26-20; 8:45 am]

BILLING CODE 7020-02-P